DEPARTMENT OF TRANSPORTATION

Federal Aviation Administration

14 CFR Part 39

[Docket No. FAA-2012-0864; Directorate Identifier 2011-NM-023-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 767 airplanes. The existing AD currently requires sealing certain fasteners and stiffeners in the fuel tank, changing certain wire bundle clamp configurations on the fuel tank walls, inspecting certain fasteners in the fuel tanks and determining the method of attachment of the vortex generators, and performing corrective action if necessary. We issued that AD to prevent possible ignition sources in the auxiliary (center) fuel tank, main fuel tanks, and surge tanks caused by a wiring short or lightning strike, which could result in fuel tank explosions and consequent loss of the airplane. Since we issued that AD, another possible ignition source location was identified. This proposed AD would add a general visual inspection for the presence of a polytetrafluoroethylene (TFE) sleeve at the clamp location on the rear spar, and installation of a TFE sleeve if necessary. This proposed AD would also add airplanes to the applicability. We are proposing this AD to correct the unsafe condition on these products.

DATES: We must receive comments on this proposed AD by October 22, 2012.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Rebel Nichols, Aerospace Engineer, Propulsion Branch, ANM-140S, FAA, Seattle Aircraft Certification Office, 1601 Lind Avenue SW., Renton, WA 98057-3356; phone: 425-917-6509; fax: 425-917-6590; email: rebel.nichols@faa.gov.

SUPPLEMENTARY INFORMATION:

Comments Invited

We invite you to send any written relevant data, views, or arguments about this proposed AD. Send your comments to an address listed under the ADDRESSES section. Include “Docket No. FAA-2012-0864; Directorate Identifier 2011-NM-023-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 7, 2009, we issued AD 2009-18-02, Amendment 39-15998 (74 FR 43621, August 27, 2009), for certain Model 767-200, -300, -300F, and -400ER series airplanes. That AD requires sealing certain fasteners and stiffeners in the fuel tank, changing certain wire bundle clamp configurations on the fuel tank walls, inspecting certain fasteners in the fuel tanks and determining the method of attachment of the vortex generators, and corrective action if necessary. That AD resulted from fuel system reviews conducted by the manufacturer. We issued that AD to prevent possible ignition sources in the auxiliary (center) fuel tank, main fuel tanks, and surge tanks caused by a wiring short or lightning strike, which could result in fuel tank explosions and consequent loss of the airplane.

Actions Since Existing AD Was Issued

Since we issued AD 2009-18-02, Amendment 39-15998 (74 FR 43621, August 27, 2009), another possible ignition source location was identified that could also result in fuel tank explosions and consequent loss of the airplane.

Relevant Service Information

AD 2009-18-02, Amendment 39-15998 (74 FR 43621, August 27, 2009), refers to Boeing Service Bulletin 767-57A0102, Revision 01, dated November 27, 2007, as the appropriate source of service information for installing the wire bundle sleeve and clamp and applying fastener sealant. Boeing has since revised this service bulletin. We have reviewed Boeing Service Bulletin 767-57A0102, Revision 4, dated September 20, 2011, which includes the following changes (introduced in Boeing Service Bulletin 767-57A0102, Revision 3, dated December 2, 2010): the addition of work package 13, which includes a general visual inspection of the clamp location on the rear spar to determine whether a polytetrafluoroethylene (TFE) sleeve is installed between the clamp and the plastic convoluted tubing, and the installation of a TFE sleeve between the clamp and the plastic convoluted tubing, if necessary. Boeing Service Bulletin 767-57A0102, Revision 4, dated September 20, 2011, also adds airplanes to the effectivity.

AD 2009-18-02, Amendment 39-15998 (74 FR 43621, August 27, 2009), refers to Boeing Service Bulletin 767-57A0100, Revision 01, dated June 19, 2008, as the appropriate source of service information for sealing certain bracket fasteners and rear spar stiffeners, and inspecting the vortex generator attachment. Boeing has since revised this service bulletin. We have reviewed Boeing Service Bulletin 767-57A0100, Revision 3, dated July 28, 2011, which adds clarifications, but no new actions.

FAA's Determination

We are proposing this AD because we evaluated all the relevant information and determined the unsafe condition described previously is likely to exist or develop in other products of the same type design.

Proposed AD Requirements

This proposed AD would retain all requirements of AD 2009-18-02, Amendment 39-15998 (74 FR 43621, August 27, 2009). This proposed AD would revise the applicability to include additional airplanes. This proposed AD would also add a general visual inspection for the presence of a TFE sleeve at the clamp location on the rear spar, and installation of a TFE sleeve if necessary.

Change to Existing AD

This proposed AD would retain all requirements of AD 2009-18-02, Amendment 39-15998 (74 FR 43621, August 27, 2009). Since AD 2009-18-02 was issued, the AD format has been revised, and certain paragraphs have been rearranged. As a result, the corresponding paragraph identifiers have changed in this proposed AD, as listed in the following table:

Revised Paragraph Identifiers
Requirement/information in AD 2009-18-02, Amendment 39-15998 (74 FR 43621, August 27, 2009) | Corresponding requirement in this proposed AD
paragraph (f) | paragraph (g).
paragraph (g) | paragraph (h).
Note 1 | paragraph (i).

Other Changes

We have revised certain headings throughout this AD.

Costs of Compliance

We estimate that this proposed AD affects 414 airplanes of U.S. registry.

We estimate the following costs to comply with this proposed AD:

Estimated Costs
Action | Labor cost | Parts cost | Cost per product | Number of U.S.-registered airplanes | Cost on U.S. operators
Group 1—Seal ends of fasteners—Boeing Service Bulletin 767-57A0100 (retained actions from AD 2009-18-02, Amendment 39-15998 (74 FR 43621, August 27, 2009)) | 6 work-hours × $85 per hour = $510 | $0 | $510 | 367 | $187,170
Group 2—Seal ends of fasteners—Boeing Service Bulletin 767-57A0100 (retained actions from AD 2009-18-02, Amendment 39-15998 (74 FR 43621, August 27, 2009)) | 114 work-hours × $85 per hour = $9,690 | 0 | 9,690 | 37 | 358,530
Group 3—Inspection—Boeing Service Bulletin 767-57A0100 (retained actions from AD 2009-18-02, Amendment 39-15998 (74 FR 43621, August 27, 2009)) | 1 work-hour × $85 per hour = $85 | 0 | 85 | 9 | 765
Group 1—Change wire bundle clamp configurations, Boeing Service Bulletin 767-57A0102 (retained actions from AD 2009-18-02, Amendment 39-15998 (74 FR 43621, August 27, 2009)) | 250 work-hours × $85 per hour = $21,250 | 1,632 | 22,882 | 376 | 8,603,632
Group 2—Change wire bundle clamp configurations, Boeing Service Bulletin 767-57A0102 (retained actions from AD 2009-18-02, Amendment 39-15998 (74 FR 43621, August 27, 2009)) | 874 work-hours × $85 per hour = $74,290 | 1,304 | 75,594 | 37 | 2,796,978
Group 3—Change wire bundle clamp configuration and seal fasteners, Boeing Service Bulletin 767-57A0102 (retained actions from AD 2009-18-02, Amendment 39-15998 (74 FR 43621, August 27, 2009)) | 26 work-hours × $85 per hour = $2,210 | 338 | 2,548 | 1 | 2,548
All airplanes—Inspection (new proposed action) | 1 work-hour × $85 per hour = $85 | 0 | 85 | 414 | 35,190

We estimate the following costs to do any necessary repair that would be required based on the results of the proposed inspection. We have no way of determining the number of aircraft that might need this repair:

On-Condition Costs
Action | Labor cost | Parts cost | Cost per product
Seal ends of fasteners—Boeing Service Bulletin 767-57A0100 (retained actions from AD 2009-18-02, Amendment 39-15998 (74 FR 43621, August 27, 2009)) | 6 work-hours × $85 per hour = $510 | $0 | Up to $510.
Installation of TFE sleeve—Boeing Service Bulletin 767-57A0102 | 1 work-hour × $85 per hour = $85 | 0 | $85.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-18-02, Amendment 39-15998 (74 FR 43621, August 27, 2009), and adding the following new AD:

The Boeing Company: Docket No. FAA-2012-0864; Directorate Identifier 2011-NM-023-AD.

(a) Comments Due Date

The FAA must receive comments on this AD action by October 22, 2012.

(b) Affected ADs

This AD supersedes AD 2009-18-02, Amendment 39-15998 (74 FR 43621, August 27, 2009).

(c) Applicability

This AD applies to The Boeing Company Model 767-200, -300, -300F, and -400ER series airplanes; certificated in any category; as identified in Boeing Service Bulletin 767-57A0100, Revision 3, dated July 28, 2011; and Boeing Service Bulletin 767-57A0102, Revision 4, dated September 20, 2011.

(d) Subject

Joint Aircraft System Component (JASC)/Air Transport Association (ATA) of America Code 57: Wings.

(e) Unsafe Condition

This AD was prompted by fuel system reviews conducted by the manufacturer. We are issuing this AD to prevent possible ignition sources in the auxiliary (center) fuel tank, main fuel tanks, and surge tanks caused by a wiring short or lightning strike, which could result in fuel tank explosions and consequent loss of the airplane.

(f) Compliance

Comply with this AD within the compliance times specified, unless already done.

(g) Retained Fastener Sealant Application

This paragraph restates the requirements of paragraph (f) of AD 2009-18-02, Amendment 39-15998 (74 FR 43621, August 27, 2009), with revised service information. For airplanes identified in Boeing Service Bulletin 767-57A0100, Revision 1, dated June 19, 2008: Within 60 months after October 1, 2009 (the effective date of AD 2009-18-02), do the actions in paragraphs (g)(1) and (g)(2) of this AD, as applicable, in accordance with the Accomplishment Instructions of Boeing Service Bulletin 767-57A0100, Revision 01, dated June 19, 2008; or Boeing Service Bulletin 767-57A0100, Revision 3, dated July 28, 2011. As of the effective date of this AD, only Boeing Service Bulletin 767-57A0100, Revision 3, dated July 28, 2011, may be used to accomplish the requirements of this paragraph.

(1) For Groups 1 and 2 airplanes: Seal the ends of the fasteners on the brackets that hold the vortex generators, and seal the ends of the fasteners on certain stiffeners on the rear spar, as applicable.

(2) For Group 3 airplanes: Do a detailed inspection to determine the method of attachment of the vortex generators and, before further flight, do all applicable specified corrective actions.

(h) Retained Wire Bundle Sleeve and Clamp Installation and Fastener Sealant Application for Currently Affected Airplanes

This paragraph restates the requirements of paragraph (g) of AD 2009-18-02, Amendment 39-15998 (74 FR 43621, August 27, 2009), with revised service information. For airplanes identified in Boeing Service Bulletin 767-57A0102, Revision 01, dated November 27, 2007: Within 60 months after October 1, 2009 (the effective date of AD 2009-18-02), do the actions specified in paragraphs (h)(1), (h)(2), and (h)(3) of this AD, as applicable, in accordance with the Accomplishment Instructions of Boeing Service Bulletin 767-57A0102, Revision 01, dated November 27, 2007; or Boeing Service Bulletin 767-57A0102, Revision 4, dated September 20, 2011. As of the effective date of this AD, only Boeing Service Bulletin 767-57A0102, Revision 4, dated September 20, 2011, may be used to accomplish the actions required by this paragraph.

(1) Change the wire bundle clamp configurations at specified locations on the fuel tank walls.

(2) Seal the fasteners and certain stiffeners at specified locations in the fuel tank.

(3) Do a detailed inspection of the sealant of the fasteners in the auxiliary tank center bay and rib 28 of the left and right main fuel tanks. Seal any unsealed fasteners before further flight.

(i) Definition

This paragraph restates the information specified in Note 1 of AD 2009-18-02, Amendment 39-15998 (74 FR 43621, August 27, 2009). For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(j) New Wire Bundle Sleeve and Clamp Installation and Fastener Sealant Application for Newly Added Airplanes

For airplanes identified in Boeing Service Bulletin 767-57A0102, Revision 4, dated September 20, 2011, but not identified in paragraph (h) of this AD: Do the actions required by paragraph (h) of this AD within 60 months after the effective date of this AD.

(k) New Inspection and Sleeve Installation

For airplanes identified as Groups 1 and 2 in Boeing Service Bulletin 767-57A0102, Revision 4, dated September 20, 2011: Within 60 months after the effective date of this AD, do a general visual inspection of the clamp location on the rear spar to determine whether a polytetrafluoroethylene (TFE) sleeve is installed between the clamp and the plastic convoluted tube, in accordance with Work Package 13 of the Accomplishment Instructions of Boeing Service Bulletin 767-57A0102, Revision 4, dated September 20, 2011.

(1) If a TFE sleeve is not installed between the clamp and the plastic convoluted tubing, before further flight, install a TFE sleeve, in accordance with the Accomplishment Instructions of Boeing Service Bulletin 767-57A0102, Revision 4, dated September 20, 2011.

(2) If a TFE sleeve is installed between the clamp and the plastic convoluted tubing, no more work is required by this paragraph.

(l) Credit for Previous Actions

(1) This paragraph provides credit for the actions required by paragraph (g) of this AD, if those actions were performed before the effective date of this AD using Boeing Service Bulletin 767-57A0100, dated August 21, 2006; Revision 1, dated June 19, 2008; or Revision 2, dated May 20, 2010.

(2) This paragraph provides credit for the actions required by paragraph (h) of this AD, if those actions were performed before the effective date of this AD using Boeing Service Bulletin 767-57A0102, Revision 01, dated November 27, 2007; Revision 2, dated January 7, 2010; or Revision 3, dated December 2, 2010.

(m) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) AMOCs approved previously in accordance with AD 2009-18-02, Amendment 39-15998 (74 FR 43621, August 27, 2009), are approved as AMOCs for the corresponding provisions of this AD.

(n) Related Information

(1) For more information about this AD, contact Rebel Nichols, Aerospace Engineer, Propulsion Branch, ANM-140S, FAA, Seattle Aircraft Certification Office, 1601 Lind Avenue SW., Renton, WA 98057-3356; phone: 425-917-6509; fax: 425-917-6590; email: rebel.nichols@faa.gov.

(2) For service information identified in this AD, contact Boeing Commercial Airplanes, Attention: Data & Services Management, P.O. Box 3707, MC 2H-65, Seattle, WA 98124-2207; telephone 206-544-5000, extension 1; fax 206-766-5680; Internet https://www.myboeingfleet.com. You may review copies of the referenced service information at the FAA, Transport Airplane Directorate, 1601 Lind Avenue SW., Renton, WA. For information on the availability of this material at the FAA, call 425-227-1221.

Issued in Renton, Washington, on August 24, 2012.
Ali Bahrami,
Manager, Transport Airplane Directorate, Aircraft Certification Service.

[FR Doc. 2012-21931 Filed 9-5-12; 8:45 am]

BILLING CODE 4910-13-P